DEPARTMENT OF THE INTERIOR

Fish and Wildlife Service

Endangered Species Recovery Permit Application

AGENCY: Fish and Wildlife Service, Interior

ACTION: Notice of receipt of permit application, request for comment.

SUMMARY: We, the Fish and Wildlife Service (Service), invite the public to comment on the following application to conduct certain activities with an endangered species.

DATES: We must receive comments on this permit application on or before January 11, 2008.

ADDRESSES: Submit written data or comments to the Chief, Endangered Species, U.S. Fish and Wildlife Service, 300 Westgate Center Drive, Hadley, Massachusetts 01035 (telephone: 413-253-8615; fax: 413-253-8482). Please refer to the permit number when submitting comments.

FOR FURTHER INFORMATION CONTACT: Martin Miller, at the above address.

SUPPLEMENTARY INFORMATION: The following applicant has applied for a scientific research permit to conduct specific activities with an endangered species pursuant to section 10(a)(1)(A) of the Endangered Species Act (16 U.S.C. 1531 et seq.). We solicit review and comment from local, State, and Federal agencies and the public on the following permit request:

Permit No. 166622

Applicant: U.S. Fish and Wildlife Service, Southwest Virginia Field Office, Abingdon, Virginia. The applicant requests a permit to take (capture and kill) the Lee County Cave isopod (Lirceus usdagalun) for the purpose of defining populations genetically and determining the degree of genetic separation between populations.

Public Review of Comments

Before including your address, phone number, e-mail address, or other personal identifying information in your comment, you should be aware that your entire comment—including your personal identifying information—may be made publicly available at any time. While you can ask us in your comment to withhold your personal identifying information from public review, we cannot guarantee that we will be able to do so.

Comments and materials received will be available for public inspection, by appointment, during normal business hours at the above address.

Authority: The authority for this section is the Endangered Species Act of 1973, as amended (16 U.S.C. 1531 et. seq.)

Dated: November 8, 2007.
Thomas J. Healy,
Acting Regional Director, Region 5, U.S. Fish and Wildlife Service.

[FR Doc. E7-24084 Filed 12-11-07; 8:45 am]

BILLING CODE 4310-55-P